DEPARTMENT OF THE INTERIOR

Bureau of Indian Affairs

[212A2100DD/AAKC001030/A0A501010.999900253G]

Final Environmental Impact Statement and Final Conformity Determination for the Tejon Indian Tribe's Proposed Fee-to-Trust Acquisition and Casino Resort Project, Kern County, California

AGENCY: Bureau of Indian Affairs, Interior.

ACTION: Notice of availability.

SUMMARY: This notice advises the public that the Bureau of Indian Affairs (BIA), as lead agency, with the Tejon Indian Tribe (Tribe), Kern County (County), National Indian Gaming Commission (NIGC), and the U.S. Environmental Protection Agency (EPA) serving as cooperating agencies, intends to file a Final Environmental Impact Statement (FEIS) with the EPA in connection with the Tribe's application for transfer into trust by the United States of approximately 306 acres for gaming and other purposes to be located west of the Town of Mettler, Kern County, California.

DATES: The Record of Decision for the proposed action will be issued on or after 30 days from the date the EPA publishes its Notice of Availability in the Federal Register. The BIA must receive any comments on the FEIS before that date.

ADDRESSES: You may submit written comments:

• By mail to: Amy Dutschke, Regional Director, Bureau of Indian Affairs, Pacific Region, 2800 Cottage Way, Sacramento, CA 95825. Please include your name, return address, and “FEIS Comments, Tejon Indian Tribe Casino Project” on the first page of your written comments.

• By email to: Chad Broussard, Environmental Protection Specialist, Bureau of Indian Affairs, at chad.broussard@bia.gov, using “FEIS Comments, Tejon Indian Tribe Casino Project” as the subject of your email.

FOR FURTHER INFORMATION CONTACT: Chad Broussard, Environmental Protection Specialist, Bureau of Indian Affairs, Pacific Regional Office, telephone: (916) 978-6165; email: chad.broussard@bia.gov. Information is also available at www.tejoneis.com.

SUPPLEMENTARY INFORMATION: The BIA published the Notice of Availability for the Draft EIS in the Federal Register and the Bakersfield Californian on June 12, 2020 (85 FR 35948). The BIA held a virtual public hearing on July 8, 2020.

Background: The Proposed Project consists of the following components: (1) The Department of the Interior's (Department) transfer of approximately 306 acres from fee to trust status pursuant to Section 5 of the Indian Reorganization Act (25 U.S.C. 5108); (2) issuance of a determination by the Secretary of the Interior pursuant to Section 20 of the Indian Gaming Regulatory Act determining whether a gaming facility on the project site would be in the best interest of the Tribe and its members and not detrimental to the surrounding community (25 U.S.C. 2719(b)(1)(A)); (3) the approval of a management contract by the Chairman of the National Indian Gaming Commission pursuant to 25 U.S.C. 2711; and (4) the development of the trust parcel with a casino, hotel, convention center, multipurpose event space, several restaurant facilities, parking facilities, a recreational vehicle (RV) park, fire and sheriff stations, and associated facilities.

The following alternatives are considered in the FEIS: (1) Proposed Project; (2) Reduced Intensity Hotel and Casino; (3) Organic Farm; (4) Alternate Site for the Proposed Project; and (5) No Action Alternative. The BIA has selected Alternative A1, the Proposed Project, as the Preferred Alternative as discussed in the FEIS.

Environmental issues addressed in the FEIS include geology and soils, water resources, air quality, biological resources, cultural and paleontological resources, socioeconomic conditions (including environmental justice), transportation and circulation, land use, public services, noise, hazardous materials, aesthetics, cumulative effects, and indirect and growth inducing effects.

The information and analysis contained in the FEIS, as well as its evaluation and assessment of the Preferred Alternative, will assist the Department in its review of the issues presented in the Tribe's application. Selection of the Preferred Alternative does not indicate the Department's final decision because the Department must complete its review process. The Department's review process consists of (1) issuing the notice of availability of the FEIS; (2) issuing a Record of Decision no sooner than 30 days following publication of a Notice of Availability of the FEIS by the EPA in the Federal Register; (3) issuing a Secretarial Determination pursuant to Section 20 of the Indian Gaming Regulatory Act that determines whether the Tribe's gaming facility would be in the best interest of the Tribe and its members and is not detrimental to the surrounding community, 25 U.S.C. 2719(b)(1)(A); (4) requesting the Governor of California's concurrence with the Secretarial Determination; and (5) issuing a final decision on the transfer of the proposed site from fee to trust status pursuant to Section 5 of the Indian Reorganization Act, 25 U.S.C. 5108. The National Indian Gaming Commission will separately consider the Tribe's application for a management contract pursuant to 25 CFR part 533.

In accordance with Section 176 of the Clean Air Act (42 U.S.C. 7506), and the EPA general conformity regulations 40 CFR part 93, subpart B, a Final Conformity Determination (FCD) has been prepared for the proposed project. The Clean Air Act requires Federal agencies to ensure that their actions conform to applicable implementation plans for achieving and maintaining the National Ambient Air Quality Standards for criteria air pollutants. The BIA has prepared an FCD for the proposed action/project described above. The FCD is included in Appendix Z of the FEIS.

Locations where the FEIS is Available for Review: The FEIS is available for review at www.tejoneis.com. Contact information is listed in the FOR FURTHER INFORMATION CONTACT section of this notice.

Public Comment Availability: Comments, including names and addresses of respondents, will be available for public review. Before including your address, telephone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the NEPA of 1969, as amended (42 U.S.C. 4371, et seq.), and is in the exercise of authority delegated to the Assistant Secretary—Indian Affairs by 209 DM 8. This notice is also published in accordance with 40 CFR 93.155, which provides reporting requirements for conformity determinations.

Tara Sweeney,
Assistant Secretary—Indian Affairs.

[FR Doc. 2020-23497 Filed 10-22-20; 8:45 am]

BILLING CODE 4337-15-P